DEPARTMENT OF HEALTH AND HUMAN SERVICES

Office of Inspector General

Healthcare Integrity and Protection Data Bank: Change in User Fees

AGENCY: Office of Inspector General (OIG), HHS.

ACTION: Notice.

SUMMARY: In accordance with final regulations at 45 CFR part 61, implementing the Healthcare Integrity and Protection Data Bank (HIPDB), the Department is authorized to assess a fee on all requests for information, except requests from Federal agencies. In accordance with § 61.13 of the HIPDB regulations, the Department is announcing an adjustment from $4.25 to $4.75 in the fee charged for each query submitted by authorized entities. There will be no change to the current $8 self-query fee.

EFFECTIVE DATE: This change will be effective May 9, 2006.

FOR FURTHER INFORMATION CONTACT: Joel Schaer, Office of External Affairs, (202) 619-0089.

SUPPLEMENTARY INFORMATION:

User Fee Amount

Section 1128E(d)(2) of the Social Security Act (the Act), as added by section 221(a) of the Health Insurance Portability and Accountability Act of 1996, specifically authorizes the establishment of fees for the costs of processing requests for disclosure and for providing information from the Healthcare Integrity and Protection Data Bank (HIPDB). Final regulations at 45 CFR part 61 set forth the criteria and procedures for information to be reported to and disclosed by the HIPDB. The Act also requires that the Department recover the full costs of operating the HIPDB through such user fees. In determining any changes in the amount of the user fee, the Department employs the criteria set forth in § 61.13(b) of the HIPDB regulations.

Specifically, § 61.13(b) states that the amount of each fee will be determined based on the following criteria:

• Direct and indirect personnel costs;

• Physical overhead, consulting, and other indirect costs, including rent and depreciation on land, buildings, and equipment;

• Agency management and supervisory costs;

• Costs of enforcement, research, and establishment of regulations and guidance;

• Use of electronic data processing equipment to collect and maintain information, i.e., the actual cost of the service, including computer search time, runs, and printouts; and

• Any other direct or indirect costs related to the provision of services.

The current fee structure of $4.25 for each separate query submitted by authorized entities was announced in a Federal Register notice on April 22, 2003, (68 FR 19838) and became effective on July 1, 2003. Based on the above criteria and our analysis of operational costs and the comparative costs of the various methods for filing and paying for queries, the Department is now raising the fee by $.50 cents, from $4.25 to $4.75, for each query submitted by authorized entities. The practitioner self-query fee will remain at $8 and the investigative research fee will remain at $10.

When an authorized entity query is submitted for information on one or more health care practitioners, providers, or suppliers, the appropriate total fee will be $4.75 multiplied by the number of individuals or organizations about which information is being requested.

To minimize administrative costs, the Department will accept queries submitted by authorized entities by credit card or electronic funds transfer. The Department will continue to accept payment for self-queries only by credit card. The HIPDB accepts Visa, MasterCard, and Discover. To submit queries, registered entities (including law enforcement agencies) must use the HIPDB Web site at http://www.npdb-hipdb.com.

The Department will continue to review the user fee periodically and will revise it as necessary. Any future changes in the fee and its effective date will be announced through a notice in the Federal Register.

Examples
Query method | Fee per name in query, by method of payment | Examples
Authorized entity query | $4.75 | 10 names in query: 10 × $4.75 = $47.50.
Self-query | 8.00 | 10 self-queries: 10 × $8 = $80.
Investigative research query | 10.00 | 10 investigative research queries: 10 × $10 = $100.

Dated: March 3, 2006.
Daniel R. Levinson,
Inspector General.

[FR Doc. E6-3378 Filed 3-9-06; 8:45 am]

BILLING CODE 4152-01-P